GENERAL SERVICES ADMINISTRATION

Privacy Act of 1974; Proposed Privacy Act System of Records

AGENCY: General Services Administration

ACTION: Notice of a system of records subject to the Privacy Act of 1974

SUMMARY: The General Services Administration (GSA) is providing notice of the establishment of the record system, Federal Procurement Data System—Next Generation (FPDS-NG), (GSA/OAP-3). FPDS-NG fulfills GSA's mission to provide a comprehensive mechanism for assembling, organizing, and presenting contract procurement data for the Federal Government. The system collects, processes, and disseminates official statistical data on Federal contracting. The data is used to generate reports for the three branches of government, federal agencies and the general public.

DATES: This privacy notification for the Federal Procurement Data System—Next Generation (FPDS-NG) will become effective 40 days after April 24, 2006 unless comments received on or before that date result in a contrary determination.

ADDRESSES: Comments should be directed to the Federal Procurement Data Center Program Manager, Integrated Acquisition Environment (GSA/IAE/VSI), Office of The Chief Acquisition Officer, Suite 911, Crystal Park I, 2011 Crystal Drive, Arlington VA 22202.

FOR FURTHER INFORMATION CONTACT: GSA Privacy Act Officer (CIB), General Services Administration, 1800 F Street NW, Washington DC 20405; telephone (202) 501-1452.

Dated: March 10, 2006.
June V. Huber,
Director, Office of Information Management.

GSA/OAP-3

System name: Federal Procurement Data System—Next Generation (FPDS-NG)

System location: Electronic records are maintained by the FPDS-NG contractor in a secure computer facility. Contact the system manager for additional information.

Categories of individuals covered by the system: FPDS-NG includes information on individuals who are sole proprietors who have or had contracts with the Federal Government.

Categories of Records in the System: The system collects, processes, and maintains official statistical data on Federal contracting, including:

a. Information on individual federal contractors that may include name, Duns (Data Universal Numbering System) number, and Social Security Number as the Taxpayer Identification Number (TIN).

b. Contracts that are unclassified but may be considered sensitive due to insight they may provide into federal government activities in conjunction with data from other federal contracts.

Authorities for maintenance of the system: P.L. 93-400 Office of Federal Procurement Policy Act, as amended; 41 U.S.C. 405, 417.

Purpose: To establish and maintain a system for assembling, organizing, and presenting contract procurement data for the federal government and the public sector.

Routine uses of the system records, including categories of users and their purpose for using the system:

Information in this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To an authorized appeal or grievance examiner, formal complaints examiner, equal employment opportunity investigator, arbitrator, or other duly authorized official engaged in investigation or settlement of a grievance, complaint, or appeal filed by an individual to whom the information pertains.

d. To the Office of Management and Budget (OMB) and the Government Accountability Office (GAO) in accordance with their responsibilities for evaluating Federal programs.

e. To a Member of Congress or his or her staff on behalf of and at the request of the individual who is the subject of the record.

f. To authorized officials of the agency that provided the information for inclusion in the system.

g. To an expert, consultant, or contractor in the performance of a Federal duty to which the information is relevant.

h. To provide recurring or special reports to the President, Congress, the Government Accountability Office, Federal Executive agencies, and the general public.

i. As a means of measuring and assessing the impact of Federal contracting on the nation's economy and the extent to which small, veteran-owned small, service-disabled veteran-owned small, HUBZone small, small disadvantaged and woman-owned small business concerns are sharing in Federal contracts.

j. To provide information for policy and management control purposes.

Policies and practices for storing, retrieving, accessing, retaining, and disposing of system records:

Storage: Information may be collected electronically and may be stored on electronic media, as appropriate. Electronic records are kept on server hard drives and electronic backup devices.

Retrievability: Records are retrievable by a variety of fields, the key for individual records being the unique Procurement Instrument Identifier (PIID).

Safeguards: System records are safeguarded in accordance with the requirements of the Privacy Act, the Computer Security Act, and the FPDS-NG System Security Plan. Technical, administrative, and personnel security measures are implemented to ensure confidentiality and integrity of the system data that is stored, processed, and transmitted. Electronic records are protected by passwords and other appropriate security measures.

Data entry is limited to authorized users whose names and levels of access are maintained by federal agencies and the information is securely stored online. Unclassified but sensitive contract data in the system is restricted to those who have access within the federal agency. Agencies determine when their contract information may be made available for viewing by other agencies and the public.

Retention and disposal: Disposition of records is according to the National Archives and Records Administration (NARA) guidelines, as set forth in the GSA Records Maintenance and Disposition System handbooks OAD P 1820.2A and CIO P 1820.1, and authorized GSA records schedules.

System manager and address: Federal Procurement Data Center Program Manager, Integrated Acquisition Environment (GSA/IAE/VSI), Office of The Chief Acquisition Officer, Suite 911, Crystal Park I, 2011 Crystal Drive, Arlington, VA 22202.

Notification procedure: An individual may obtain information on whether the system contains his or her record by registering with FPDS-NG as a public user and using one or more of the various search capabilities to search for the record, or by addressing the inquiry to the system manager. Requests for system information that is releasable under the Freedom of Information Act (FOIA) may be directed to the Federal Procurement Data Center Program Manager through the FOIA Requestor Service Center, 1800 F St. NW, Room 7126, Washington DC 20405.

Record access procedures: Any individual may register with FPDS-NG as a public user and use one or more of the various search capabilities to search for federal contracts after they have been awarded and entered into FPDS-NG. Individuals also may request access to their information from the system manager. The public may obtain releasable information by submitting a FOIA request to the Federal Procurement Data Center Program Manager through the FOIA Requestor Service Center.

Contesting record procedures: GSA establishes the rules for access to federal contracts. Individuals may contest the contents of a contract by contacting the contracting office in the department or agency that awarded the contract.

Record source categories: Information is obtained from federal agencies who report federal contracts after award according to the reporting requirements included in the Federal Acquisition Regulation Subpart 4.6—Contract Reporting. These records may contain the names of individuals, their DUNs number, and Taxpayer Identification Number (TIN).

[FR Doc. 06-2560 Filed 3-14-06; 8:45 am]

BILLING CODE 6820-34-S